DEPARTMENT OF DEFENSE

Department of the Navy

Record of Decision for the Disposal and Reuse of the Hunters Point Annex To Naval Station Treasure Island, Formerly Hunters Point Naval Shipyard, San Francisco, California

SUMMARY: The Department of the Navy (Navy), pursuant to Section 102(2)(C) of the National Environmental Policy Act of 1969 (NEPA), 42 U.S.C. 4332(2)(C) (1994), and the regulations of the Council on Environmental Quality that implement NEPA procedures, 40 CFR parts 1500-1508, hereby announces its decision to dispose of the Hunters Point Annex to Naval Station Treasure Island, formerly Hunters Point Naval Shipyard (Hunters Point), which is located in San Francisco, California.

Navy analyzed the impacts of the disposal and reuse of Hunters Point in an Environmental Impact Statement (EIS), as required by NEPA. The EIS analyzed two reuse alternatives and identified the Land Use Alternatives and Proposed Draft Plan, Hunters Point Shipyard, dated March 1995, as modified by the San Francisco Redevelopment Agency on January 6, 1997, (Reuse Plan) and described in the EIS as the Proposed Reuse Plan Alternative, as the Preferred Alternative. The Preferred Alternative proposed to use the Hunters Point property for industrial, commercial, residential, and educational activities and to develop parks and recreational areas.

Navy plans to dispose of Hunters Point in a manner that is consistent with the Reuse Plan and under the authority of Section 2824(a) of the National Defense Authorization Act for Fiscal Year 1991, Public Law 101-510, as amended by Section 2834 of the National Defense Authorization Act for Fiscal Year 1994, Public Law 103-160. Section 2834 of Public Law 103-160 authorizes the Secretary of the Navy to convey the Hunters Point property to the City of San Francisco or a local reuse organization approved by the City.

This Record Of Decision does not mandate a specific mix of land uses. Rather, it leaves selection of the particular means to achieve the proposed redevelopment to the acquiring entity and the local zoning authority.

Background: Hunters Point Naval Shipyard ceased operating as a ship construction, overhaul, and repair facility in 1974. Thereafter, Navy leased the property to various private entities and, between 1986 and 1990, Navy used the facility to repair several Naval vessels.

Under the authority of the Defense Authorization Amendments and Base Closure and Realignment Act, Public Law 100-526, 10 U.S.C. 2687 note (1994), the 1988 Defense Secretary's Commission on Base Realignment and Closure recommended that Navy exclude Hunters Point from its Strategic Homeport Program. This recommendation was approved by the Secretary of Defense, Frank Carlucci, and accepted by the One Hundred First Congress in 1989.

In 1990, Navy designated the property as the Hunters Point Annex to Naval Station Treasure Island, which is also located in San Francisco. Section 2824(a) of the National Defense Authorization Act for Fiscal Year 1991, Public Law 101-510, directed Navy to lease not less than 260 acres at Hunters Point to the City of San Francisco at fair market value for a period of at least 30 years.

Under the authority of the Defense Base Closure and Realignment Act of 1990 (DBCRA), Public Law 101-510, 10 U.S.C. § 2687 note (1994), the 1991 Defense Base Closure and Realignment Commission recommended closing the Hunters Point Annex to Naval Station Treasure Island. The Commission also recommended that Navy lease the entire property and permit continuing occupancy by certain Navy components. These recommendations were approved by president Bush and accepted by the One Hundred Second Congress in 1991.

The 1993 Defense Base Closure and Realignment Commission modified the 1991 Commission's recommendation by directing Navy to dispose of the Hunters Point Annex in any lawful manner, including by leasing the property. The 1993 Commission's recommendation was approved by President Clinton and accepted by the One Hundred Third Congress in September 1993.

Later in 1993, Section 2834 of Public Law 103-160 amended Section 2824(a) of Public Law 101-510 and gave the Secretary of the Navy authority to convey Hunters Point Naval Shipyard to the City of San Francisco or a local reuse organization approved by the City instead of leasing the property. This authority is independent of the Defense Base Closure and Realignment Act of 1990, as well as the Federal Property and Administrative Services Act of 1949, 40 U.S.C. 484 (1994), and its implementing regulations, the Federal Property Management Regulations, 41 CFR part 101-47.

Hunters Point Naval Shipyard is located in the City of San Francisco and covers 936 acres, of which 443 acres are submerged. The property is bounded on the north by India Basin; on the east and south by San Francisco Bay; on the southwest by South Basin; and on the northwest by the Bayview-Hunters Point area of San Francisco. This part of the City contains light and heavy industrial activities, commercial activities, residential areas, and parks and recreational areas.

The North Gate at the intersection of Innes Avenue and Donahue Street provides the primary access to Hunters Point. The South Gate, located on Crisp Avenue and currently closed except for emergencies, provided secondary access to Hunters Point. The Shipyard property is relatively flat except for a residential area located on the crest of a ridge known as Hunters Point Hill.

Hunters Point Naval Shipyard was engaged in the construction, conversion, overhaul, repair, alteration, drydocking, and outfitting of Naval vessels and service craft. The primary berthing areas for vessels are located in the eastern part of the Shipyard and consist of the quay wall, the North Pier, the South Pier, and the Regunning Pier. Two small piers, Piers B and C, are located in the northeastern part of the base, and three larger piers, Piers 1, 2 and 3, are located in the southeastern part of the base. There is a 450-ton bridge crane situated on the Regunning Pier; it is considered an identifying characteristic of Hunters Point Naval Shipyard that reflects its historic industrial use.

Two large drydocks, Drydock 2 and Drydock 3 (which replaced Drydock 1), are located in the eastern part of the base and, together with four adjacent buildings (Buildings 140, 204, 205, and 207), comprise the Hunters Point Commercial Drydock Historic District. Drydock 4, the second largest drydock on the Pacific Coast, is located in the eastern part of the base between North Pier and South Pier. Three smaller drydocks, Drydocks 5, 6, and 7, are located in the northeastern part of the base.

This Record of Decision addresses the disposal and reuse of the entire Hunters Point Naval Shipyard property. About 40 percent of the property is currently being leased. On the leased property, 58 buildings are being used for industrial activities; 12 buildings are being used for light industrial and arts and cultural activities; three buildings are being used for commercial activities; one building is being used for recreational activities; and about 60 acres in the northern part of the property are being used for law enforcement training activities.

Navy published a Notice of Intent in the Federal Register on June 28, 1995, announcing that Navy and the City of San Francisco would jointly prepare an Environmental Impact Statement/Environment Impact Report (EIS/EIR) under NEPA and the California Environmental Quality Act, Cal. Pub. Res. Code, §§ 21000-21177 (CEQA), that analyzed the impacts of the disposal and reuse of Hunters Point Naval Shipyard. On July 12, 1995, Navy and the City held a public scoping meeting at the Southeast Community Facility located in the Bayview-Hunters Point area of San Francisco, and the scoping period concluded on July 30, 1995.

Navy and the City distributed a Draft EIS/EIR (DEIS/DEIR) to Federal, State, and local agencies, elected officials, interested parties, and the general public on November 21, 1997, and commenced a 60-day public review and comment period. During this period, Federal, State, and local agencies, community groups and associations, and interested persons submitted oral and written comments concerning the DEIS/DEIR. On December 10, 1997, Navy and the City held a public hearing in Building 101 at the Shipyard. On December 11, 1997, Navy and the city held another public hearing in a joint session with the San Francisco Planning Commission and the San Francisco Redevelopment Agency Commission at the War Memorial Veterans Building in San Francisco. The City also held two additional public hearings on January 13, 1998 and January 15, 1998.

After the public comment period for the DEIS/DEIR concluded, Navy and the City modified the analysis for the disposal and reuse of the Shipyard and prepared a Revised DEIS/DEIR. On November 6, 1998, Navy and the City distributed the Revised DEIS/DEIR to Federal, State, and local agencies, elected officials, interested parties, and the general public and commenced a 60-day public review and comment period, which was extended for 14 days. During this period, Federal, State, and local agencies, public interest groups, and one individual submitted written comments concerning the Revised DEIS/DEIR. On December 9, 1998, Navy and the City held a public hearing on the Revised DEIS/DEIR in Building 101 at the Shipyard. On December 17, 1998, Navy and the City held a second public hearing in a joint session with the San Francisco Planning Commission and the San Francisco Redevelopment Agency Commission at the War Memorial Veterans Building in San Francisco. After the public comment period concluded, Navy and the City decided to prepare separate final NEPA and CEQA documents.

Navy's responses to the public comments on the Revised DEIS/DEIR were incorporated in Navy's Final EIS (FEIS), which was distributed to the public on March 3, 2000, for a review period that concluded on April 4, 2000. Navy received five comments on the FEIS.

The City's responses to the public comments on the Revised DEIS/DEIR were incorporated in the City's document entitled Hunters Point Shipyard Reuse, Revised Draft Environmental Impact Report, Comments and Responses, dated January 2000, which was distributed to the public on January 24, 2000, for a review period that concluded on February 8, 2000. The San Francisco Redevelopment Agency and the San Francisco Planning Commission certified the EIR on February 8, 2000. Redevelopment Agency Resolution No. 12-2000; Planning Commission Resolution No. 11-2000.

Alternatives: NEPA requires Navy to evaluate a reasonable range of alternatives for the disposal and reuse of this Federal property. In the FEIS, Navy analyzed the environmental impacts of two reuse alternatives. Navy also evaluated a “No Action” alternative that would leave the property in caretaker status with Navy maintaining the physical condition of the property, providing a security force, and making repairs essential to safety.

In 1991, the Mayor of San Francisco, Art Agnos, created the Mayor's Hunters Point Shipyard Citizens Advisory Committee, composed of local government agencies and residents of the City. The Advisory Committee solicited the views of residents of the Bayview-Hunters Point community and others in the City concerning the redevelopment of Hunters Point Naval Shipyard. In February 1993, the Advisory Committee set goals and proposed various uses for the Shipyard. In February 1994, after public participation, the Advisory Committee established seven guidelines to apply to the preparation of a reuse plan for the Shipyard property: Create jobs for economic vitality; support existing businesses and artists; create an appropriate mix of new businesses; balance redevelopment and environmental conservation; make the Shipyard available for transitional uses; integrate new uses of the Shipyard property into current plans for the Bayview area; and acknowledge the social and cultural history of the Hunters Point area.

Applying these guidelines, the Advisory Committee developed four preliminary reuse alternatives: Education and Arts, Industrial, Maritime, and Residential. Each alternative, except the Residential alternative, proposed a substantial amount of industrial and maritime activities. At a public workshop on June 2, 1994, the Advisory Committee selected the Education and Arts alternative as most consistent with the guidelines for redevelopment of the Shipyard. This alternative proposed a more diverse mix of land uses and businesses and had the potential to create more jobs for residents of the Bayview-Hunters Point area. The Advisory Committee developed three preliminary plans that could implement the Education and Arts alternative. These plans were evaluated through extensive public participation.

On February 14, 1995, the Advisory Committee adopted the Land Use Alternatives and Proposed Draft Plan, Hunters Point Shipyard. On March 6, 1995, the San Francisco Board of Supervisors endorsed this plan as the preferred alternative for use in the environmental analysis. Board of Supervisors Resolution No. 175-95, dated March 17, 1995.

In a letter to Navy dated January 6, 1997, the San Francisco Redevelopment Agency modified the 1995 reuse plan to take account of the San Francisco Bay Conservation and Development Commission's management program for San Francisco Bay. Property in the southeastern part of the Shipyard that had previously been designated for future redevelopment and open space was dedicated to maritime industrial use. The proposed street pattern in the southern part of the base was reconfigured to align with the boundary of the maritime industrial area. The Redevelopment Agency also changed the use of five acres of open space at the western end of Spear Avenue from passive recreational use to active recreational use.

The Reuse Plan, identified in the FEIS as the Preferred Alternative, proposed a mix of land uses. This Alternative would use 96 acres for industrial activities; 85 acres for maritime industrial activities; 70 acres for research and development; 55 acres for commercial activities, including a hotel and conference center, office space, entertainment, and artists' studios; 25 acres for educational and cultural activities; 38 acres for residential development; and 124 acres for open space and recreational activities. The Preferred Alternative would use some of the existing facilities and build new facilities. It will be necessary to upgrade existing utility and infrastructure systems and improve the Shipyard's streets and public transportation network in order to support the proposed redevelopment of the property.

The Preferred Alternative would extend Spear Avenue, a northeast-southwest road on the base, to provide access to the development in the southern part of the base and to connect the eastern and western parts of the property. Innes Avenue and Crisp Avenue would provide access to the Hunters Point property. By the full build-out year of 2025, the Reuse Plan would create about 6,400 new jobs. It would build 500 live/work units and 1,300 residences composed of apartments, single-family houses, and duplexes.

The Preferred Alternative would develop about 775,000 square feet of space on 96 acres in the center of the southern part of the base for industrial activities. These activities could include manufacturing, sales, and distribution businesses concerned with perishable products, chemical and allied products, primary and fabricated metals, and electrical and electronic equipment and parts. Wholesale services, automobile and trucking services, courier services, equipment leasing, printing and publishing activities, warehouses and distribution facilities, airport-related ground transportation services, artists' studios, and motion picture product companies could also occupy property in this part of the Shipyard.

On 85 acres along the waterfront in the southeastern part of the base, the preferred Alternative would develop about 360,000 square feet of space for maritime industrial activities. This Alternative could use the wharves and Drydock 4 in this area for maintenance and repair of vessels and could also provide rail and truck facilities, container freight stations, intermodal container transfer facilities, offices, and storage areas. The Preferred Alternative could also develop areas here for maintaining containers and container-handling equipment and for other port activities. The maritime activities would complement the industrial activities on the adjacent 96 acres.

Along Spear Avenue and in the northern part of the Shipyard, the Preferred Alternative would develop about 312,000 square feet of space on 70 acres for research and development activities. These activities could include manufacturing, sales, and distribution businesses that would serve the medical profession. Other activities could include data processing, telecommunications, artists' studios, and live/work units.

The Preferred Alternative would develop about 1,150,000 square feet of space in four areas for various purposes such as artists' studios, live/work units, recording studios, hotel and conference facilities, retail stores, are galleries, engineering research and development facilities, educational and health services, warehouses and distribution facilities, business services, real estate and insurance services, and restaurants. This development would cover about 55 acres at the Shipyard: along Spear Avenue north of the industrial activities; northeast of Drydock 4 between the maritime industrial and research and development activities; along the waterfront at the northeast end of the property; and along Innes Avenue at the north entrance to the base. The Preferred Alternative would also build about 500 apartments above commercial facilities.

In two areas covering 25 acres at the eastern end of the shipyard and in a small area along Spear Avenue north of the industrial activities, the Preferred Alternative would develop about 555,600 square feet of space for educational and training facilities, museums, theaters, galleries, specialty retail shops, restaurants, artists' studios, and conference facilities. Part of this development at the eastern end of the shipyard is located in the Hunters Point Commercial Drydock Historic District.

The Preferred Alternative would develop about 1,300 residences composed of apartments, single-family houses, and duplexes on 38 acres in the existing residential area on Hunters Point Hill and along Crisp Avenue in the northwestern part of the Shipyard. This Alternative could also develop gardens in an open space and passive recreational area adjacent to the residential area along Crisp Avenue.

The Preferred Alternative would develop open space and recreational areas along the waterfront from the western end of the base to the southern tip of the base. Most of the property in this area would be used for passive recreation and to restore wetlands. In the center of the base, this Alternative would develop open space with both active and passive recreational areas. In the eastern part of the base along the waterfront, it would develop plazas and promenades. At the northern tip of the base, the Preferred Alternative would develop open space containing hard surfaces and passive recreational areas and would restore wetlands there. Public access trails would be located along waterfront areas and provide a link to the regional Bay Trail.

Navy analyzed a second “action” alternative, described in the FEIS as the Reduced Development Alternative. This Alternative proposed the same land uses in the same places as those set forth in the Preferred Alternative. In the Reduced Development Alternative, however, there would be less intense development characterized by fewer and smaller buildings than proposed under the Preferred Alternative.

The Reduced Development Alternative would extend Spear Avenue to provide access to the development in the southern part of the base and to connect the eastern and western parts of the property. Innes Avenue and Crisp Avenue would provide access to the Hunters Point property. By the full build-out year of 2025, the Reduced Development Alternative would create about 2,700 new jobs. It would build 100 live/work units and 300 residences composed of apartments, single-family houses, and duplexes.

The Reduced Development Alternative would develop about 377,000 square feet of space on 96 acres in the center of the southern part of the base for industrial activities. These activities could include manufacturing, sales, and distribution businesses concerned with perishable products, chemical and allied products, primary and fabricated metals, and electrical and electronic equipment and parts. Wholesale services, automobile and trucking services, courier services, equipment leasing, printing and publishing activities, warehouses and distribution facilities, airport-related ground transportation services, artists' studios, and motion picture production companies could also occupy property in this part of the Shipyard.

On 85 acres along the waterfront in the southeastern part of the base, the Reduced Development Alternative would develop about 173,000 square feet of space for maritime industrial activities. This Alternative could use the wharves and Drydock 4 in this area for maintenance and repair of vessels and could also provide rail and truck facilities, container freight stations, intermodal container transfer facilities, offices, and storage areas. The Reduced Development Alternative could also develop areas here for maintaining containers and container-handling equipment and for other port activities. The maritime activities would complement the industrial activities on the adjacent 96 acres.

Along Spear Avenue and in the northern part of the Shipyard, the Reduced Development Alternative would develop about 100,000 square feet of space on 70 acres for research and development activities. These activities could include manufacturing, sales, and distribution businesses that would serve the medical profession. Other activities could include data processing, telecommunications, artists' studios, and live/work units.

The Reduced Development Alternative would develop about 300,000 square feet of space in four areas for various purposes such as artists' studios, live/work units, recording studios, hotel and conference facilities, retail stores, art galleries, engineering research and development facilities, educational and health services, warehouses and distribution facilities, business services, real estate and insurance services, and restaurants. This development would cover about 55 acres at the Shipyard: along Spear Avenue north of the industrial activities; northeast of Drydock 4 between the maritime industrial and research and development activities; along the waterfront at the northeast end of the property; and along Innes Avenue at the north entrance to the base. The Reduced Development Alternative would also build about 100 apartments above commercial facilities.

In two areas covering 25 acres at the eastern end of the Shipyard and in a small area along Spear Avenue north of the industrial activities, the Reduced Development Alternative would develop about 345,000 square feet of space for educational and training facilities, museums, theaters, galleries, specialty retail shops, restaurants, artists' studios, and conference facilities. Part of this development at the eastern end of the Shipyard is located in the Hunters Point Commercial Drydock Historic District.

The Reduced Development Alternative would develop about 300 residences composed of apartments, single-family houses, and duplexes on 38 acres in the existing residential area on Hunters Point Hill and along Crisp Avenue in the northwestern part of the Shipyard. This Alternative could also develop gardens in an open space and passive recreational area adjacent to the residential area along Crisp Avenue.

The Reduced Development Alternative would develop open space and recreational areas along the waterfront from the western end of the base to the southern tip of the base. Most of the property in this area would be used for passive recreation and to restore wetlands. In the center of the base, this Alternative would develop open space with both active and passive recreational areas. In the eastern part of the base along the waterfront, it would develop plazas and promenades. At the northern tip of the base, the Reduced Development Alternative would develop open space containing hard surfaces and passive recreational areas and would restore wetlands there. Public access trails would be located along waterfront areas and provide a link to the regional Bay Trail.

Environmental Impacts: Navy analyzed the direct, indirect, and cumulative impacts of the disposal and reuse of this Federal property. The EIS addressed impacts of the Preferred Alternative, the Reduced Development Alternative, and the “No Action” Alternative for each alternative's effects on transportation, traffic and circulation, air quality, noise, land use, visual resources and aesthetics, socioeconomics, hazardous materials and waste, geology and soils, water resources, utilities, public services, cultural resources, and biological resources. This Record Of Decision focuses on the impacts that would likely result from implementation of the Reuse Plan, identified in the Final EIS as the Preferred Alternative.

The Preferred Alternative would have significant impacts on transportation, traffic and circulation. The Preferred Alternative would implement a Transportation Demand Management (TDM) program that would include substantial ridesharing, use of public transportation, and nonvehicular travel modes. By the full build-out year of 2025, this Alternative would generate 21,832 average daily trips. The traffic generated by the Reuse Plan would cause substantial delays during peak commuting hours at three intersections near Hunters Point Naval Shipyard. Delays arising out of traffic congestion would also increase at two other intersections, along three freeway segments, and on 11 freeway ramps, but these delays would not be significant. Additionally, the demand for public transportation, pedestrian sidewalks, and bike paths and related accommodations would exceed the projected capacity, causing a significant impact on these services and resources. Implementation of the Preferred Alternative would also increase the number of trucks entering and leaving the Hunters Point property.

The Preferred Alternative would not have a significant impact on air quality. The traffic generated by this Alternative would increase ozone precursor emissions and PM10 emissions, but the increase would not result in additional violations of Federal or State ambient air quality standards. Carbon monoxide emissions would also increase at congested intersections, but the increase would not result in violations of Federal or State standards for ambient air quality. The vehicle emission analysis assumed that a TDM program would be implemented. The impact on air quality resulting from demolition, construction, and renovation activities over the 25-year build-out period would not be significant. The acquiring entity would be responsible for complying with Bay Area Air Quality Management District (BAAQMD) guidelines for controlling airborne dust during development.

The Preferred Alternative would be consistent with many of the land use and transportation objectives and policies contained in the regional air quality plan developed by BAAQMD and the Association of Bay Area Governments as well as the Air Quality Element of the City of San Francisco's Master Plan. The particular land use pattern set forth in the Reuse Plan has not yet been incorporated in the regional air quality plan, but Federal and State laws require periodic updating of this plan to reflect changing land use and transportation plans.

Section 176(c) of the Clean Air Act, 42 U.S.C. 7506 (1994), requires Federal agencies to review their proposed activities to ensure that these activities do not hamper local efforts to control air pollution. Section 176(c) prohibits Federal agencies from conducting activities in air quality areas such as the San Francisco Bay Area that do not meet one or more of the national standards for ambient air quality, unless the proposed activities conform to an approved implementation plan. The United States Environmental Protection Agency regulations implementing Section 176(c) recognize certain categorically exempt activities. Conveyance of title to real property and certain leases are categorically exempt activities. 40 CFR 93.153(c)(2)(xiv) and (xix). Therefore, the disposal of Hunters Point Naval Shipyard will not require Navy to conduct a conformity determination.

Navy has not operated any stationary emission sources at Hunters Point since 1974. The Reuse Plan does not provide sufficient information concerning future projects to permit evaluation of the impacts that could be associated with related stationary emission sources. Proponents of such projects must submit air permit applications to BAAQMD, and it will determine whether specific mitigation measures must be imposed as a condition of granting new permits. To reduce toxic air contaminant emissions from stationary sources, the San Francisco Redevelopment Agency has committed to requiring all potential stationary sources of toxic contaminants allowed at Hunters Point to be evaluated and permitted as one facility. New potential stationary sources would only be allowed if the estimated incremental toxic air contaminant health risk from all stationary sources at Hunters Point were consistent with BAAQMD significance criteria for an individual facility. This approach is more stringent than current BAAQMD permitting requirements.

The Preferred Alternative would have a significant noise impact on certain residences to be built on the Hunters Point property. The noise generated by the increase in traffic would exceed State and local standards for residential exposure to noise for those residences located within 100 feet of the center of Donahue Street. Although less than significant, there could also be noise impacts on the proposed live/work units located in the northeastern part of the base resulting from the proposed maritime industrial activities at Drydock 4. Noise arising out of demolition and construction activities would be governed by the City's noise ordinance.

The Preferred Alternative would not have a significant impact on land use. It would convert this industrial property into a mix of land uses that would provide additional businesses, residential areas, and open space in the Bayview-Hunters Point area. Although the intensity of the development proposed by this Alternative would be evident to local residents and businesses, the proposed land uses along the northwest boundary of the base are similar to the existing land uses on adjacent property and the proposed open space would provide a buffer. During the 25-year build-out period, new educational and cultural activities could be temporarily incompatible with industrial activities being conducted under leases in the vicinity of North Pier and Drydock 4.

Implementation of the Preferred Alternative would require the City to amend the San Francisco Master Plan by adopting this Alternative as a new Area Plan of the Master Plan or by amending some or all of the Master Plan's nine elements. While disposal of the Hunters Point property will not have an effect on California coastal resources, it will be necessary for the San Francisco Redevelopment Agency to obtain coastal development permits from the Bay Conservation and Development Commission.

About 198 acres of dry land on the base are subject to a public trust established by California law for land that was formerly tidelands or under navigable waters when California became a state. The Tidelands Trust mandates that public tidelands and submerged lands must be used for the benefit of the people of California for maritime commerce, navigation, fisheries, and recreation. The proposed industrial, research and development, educational and cultural, and residential development of property in this area may not be consistent with the Trust's restrictions. The City of San Francisco, however, could avoid this impact by defining the non-trust uses as interim uses or by entering into an agreement with the California State Lands Commission to impose public trust restrictions on non-trust lands in exchange for the removal of Tidelands Trust restrictions on Trust property.

The Preferred Alternative would not have an adverse impact on visual resources. Although the intensity of development would increase, the new facilities would be limited in height and size to be consistent with existing structures at Hunters Point. This restriction, contained in the City's document entitled Design for Development, Hunters Point Shipyard, Redevelopment Project, dated August 1997, will preserve the views of San Francisco Bay from the hilltop residential area.

The Preferred Alternative would not have an adverse impact on socioeconomics. By the year 2025, this Alternative would create about 6,400 new jobs, which would constitute about 15 percent of the jobs projected to be available in the South Bayshore area by the year 2020. These new jobs would stimulate economic growth in the community. The Preferred Alternative would increase the number of residents in the South Bayshore area by 3,900 people, which is within the population growth projected by the Association of Bay Area Governments. By the year 2025, there would be 1,800 residential units on the Hunters Point property. This would constitute about 14 percent of the projected increase in housing in the South Bayshore area by the year 2020. This Alternative would make at least 15 percent of the new residences affordable for low and moderate income households.

The Preferred Alternative would not have a significant impact on schools. By the year 2025, the Preferred Alternative would generate an increase of 714 school age children living in the South Bayshore area. This constitutes a one percent increase in the projected number of students in the San Francisco Unified School District in the year 2020.

The Preferred Alternative would not have a significant impact on the environment arising out of the use or generation of hazardous substances by the acquiring entity. Hazardous materials used and hazardous wastes generated by the Reuse Plan will be managed in accordance with Federal, State, and local laws and regulations.

Implementation of the Preferred Alternative would not have an impact on public health and safety. Navy will inform future property owners about the environmental condition of the property and may, when appropriate, include restrictions, notifications, or covenants in deeds to ensure the protection of human health and the environment in light of the intended use of the property.

The Preferred Alternative could have significant impacts on geology and soils. The Hunters Point property is located in a highly active seismic region and, except for the residential area on the hilltop, is built on artificial fill that has a high potential for liquefaction, densification, and differential settlement. New construction activities will be required to meet current building codes governing seismic safety. The impacts from hazards arising out of ground movement can be reduced to an insignificant level by upgrading the existing buildings to comply with current seismic safety standards. Additionally, serpentinite, a rock that underlies major parts of the hillsides and slopes at Hunters Point, contains naturally occurring chrysotile asbestos, which could become a health hazard if released and inhaled during construction-related excavation activities. The acquiring entity must comply with Federal, State and local laws and regulations governing impacts from demolition and construction activities and the transportation and disposal of materials containing asbestos.

The Preferred Alternative would not have a significant impact on water resources. Wastewater from Hunters Point is currently discharged to the City's Southeast Water Pollution Control Plant. Stormwater from Hunters Point is discharged directly into San Francisco Bay. The Plant treats discharge from the City's combined system and handles both wastewater and stormwater from the eastern part of San Francisco. During heavy rainstorms, the capacity of the combined system can be exceeded. As a result, excess flows consisting of about six percent wastewater and 94 percent stormwater are discharged into the Bay without full treatment. Although an accepted and permitted feature of the City's combined system, these excess flows can have adverse impacts on the Bay and on recreational activities at nearby Candlestick Point State Recreation Area.

The FEIS evaluated three options for the treatment of wastewater and stormwater. Under Option 1, the City would upgrade and maintain the existing Navy systems that carry wastewater and stormwater separately. Under Option 2, the City would replace the existing Navy systems with new separate wastewater and stormwater systems. Under Option 3, the City would replace the existing Navy systems with a combined system that would handle both wastewater and stormwater.

In its document entitled Hunters Point Shipyard Reuse, Revised Draft Environmental Impact Report, Comments and Responses, dated January 2000, the City certified that it would implement Option1 or Option 2 for managing wastewater and stormwater on the Hunters Point Property and eliminated Option 3. Under Option 1 and Option 2, wastewater generated by implementation of the Reuse Plan would contribute only about one half of one percent of the total wastewater discharged to the Southeast Water Pollution Control Plant. Stormwater would not be discharged into the combined system but would continue to be discharged to the Bay. Because the discharge from Hunters Point to the Plant would be relatively small, there would not be an adverse impact on the volume and frequency of the excess flows from the City's combined system.

Stormwater must be managed in accordance with Federal, State, and local laws and regulations, and the acquiring entity will be responsible for building adequate drainage facilities. The City will build stormwater retention and treatment areas on the Hunters Point property that will improve the quality of discharges to San Francisco Bay. The required Stormwater Pollution Prevention Plan will designate the locations of these retention and treatment areas and will identify drainage patterns designed to direct flow toward these areas.

The Preferred Alternative would not have a significant impact on utilities. The projected demands for potable water and wastewater treatment would constitute a small part of the City's overall demand and would not significantly affect the capacity of the City's systems. Although the Preferred Alternative proposed to upgrade utility systems, it would not be necessary to build major new utility infrastructure to comply with current regulations and the projected demand for utilities.

The amount of solid waste generated by the Preferred Alternative would increase due to demolition, construction, and redevelopment activities but would decrease over time as the demolition and construction activities were completed. By the year 2025, this increase would constitute only about one percent of the total solid waste generated in the City.

The Preferred Alternative would not have a significant impact on public services. The proposed redevelopment of the Shipyard would increase the demand for police, fire, and emergency medical services. The distance between the Hunters Point property and local City fire stations may require the City to use the fire station at the Shipyard. Although the existing water system at the Shipyard has inadequate water pressure to meet fire fighting requirements, the Preferred Alternative proposed to upgrade the water system to satisfy these requirements.

The Preferred Alternative would not have a significant impact on cultural resources. In the course of leasing Shipyard property in 1993, Navy performed a cultural resources survey of Hunters Point Naval Shipyard pursuant to section 106 of the National Historic Preservation Act of 1966, 16 U.S.C. 470f (1994), and its implementing regulations, Protection of Historic Properties, 36 CFR part 800. In a letter dated April 23, 1993, Navy determined that nine structures (Drydocks 2, 3, and 4; Buildings 140, 204, 205, and 207; the seawall and wharves; and the site of the western tip of Drydock 1) qualified for listing on the National Register of Historic Places as contributors to the Hunters Point Commercial Drydock Historic District. Navy also determined that the leasing of certain property located west of this District would have no effect on the Shipyard's historic resources. In a letter dated June 16, 1993, the California State Historic Preservation Officer (SHPO) concurred with Navy's determinations.

In 1998, Navy undertook another review of the historic resources at Hunters Point in connection with the Section 106 process that accompanied consideration of disposal of the Shipyard. In a letter dated April 9, 1998, Navy determined that Drydock 4 was individually eligible for listing on the National Register of Historic Places and that only six structures (Drydock 2, Drydock 3, and Buildings 140, 204, 205, and 207) qualified for listing as contributors to the Hunters Point Commercial Drydock Historic District. In this letter, Navy set forth its new determination that the seawall and wharves and the remnants of Drydock 1 had lost their physical integrity and no longer contributed to the Historic District. In a letter dated May 29, 1998, the SHPO concurred with Navy's determinations.

Navy has completed consultation pursuant to Section 106 of the National Historic Preservation Act and its implementing regulations, 36 CFR part 800, with the Advisory Council on Historic Preservation and the SHPO. These consultations identified actions that Navy must take before it conveys Hunters Point Naval Shipyard to the City and actions that the City or an acquiring entity must take to avoid or mitigate adverse impacts on the structures that are eligible for listing on the National Register. These obligations were set forth in a Memorandum Of Agreement, dated January 11, 2000, among Navy, the Advisory Council on Historic Preservation, and the California State Historic Preservation Officer.

Navy will nominate Drydock 4 and the Hunters Point Commercial Drydock Historic District for listing on the National Register of Historic Places in accordance with 36 CFR 60.9. Navy completed an Historic American Engineering Record for Drydock 4, and the Department of the Interior's National Park Service accepted this documentation on November 18, 1996. Navy will also submit an Historic American Engineering Record for the Commercial Drydock Historic District to the National Park Service.

The Memorandum Of Agreement requires the San Francisco Redevelopment Agency to consult with the San Francisco Landmarks Preservation Advisory Board and the City's Planning Department, acting as the Certified Local Government, to ensure that the adaptive reuse of historic properties and adjacent new development conform to the provisions of the Hunters Point Shipyard Redevelopment Plan, dated July 1997; the City's document entitled Design for Development, Hunters Point Shipyard, Redevelopment Project, dated August 1997; and the California Historic Building Code, California Building Standards Code, Title 24, Part 8. These City documents and State laws contain requirements and procedures that encourage the preservation of historic resources by, for example, prohibiting demolition and requiring that alterations must conform with the Secretary of the Interior's Standards for Rehabilitation and Guidelines for Rehabilitating Historic Buildings.

The Preferred Alternative would have significant impacts on biological resources. Implementation of this Alternative could reduce the habitat value of the Shipyard's wetlands that provide some of the best habitat for waterfowl and shorebirds along the western shore of the central part of San Francisco Bay. The increase in activities on this property could also result in an inadvertent take of migratory birds, nests, and eggs. Implementation of the preferred Alternative could also have a beneficial impact, because it would create four wetland areas along the Bay. These wetlands could provide additional habitat for waterfowl, shorebirds, and aquatic wildlife. In a letter dated January 22, 1998, the United States Fish And Wildlife Service concurred with Navy's determination that the disposal and reuse of Hunters Point Naval Shipyard would not adversely affect any Federally-listed or proposed threatened and endangered species.

Executive Order 12898, Federal Actions to Address Environmental Justice in Minority Populations and Low-Income Populations, 3 CFR 859 (1995), requires that Navy determine whether any low income and minority populations will experience disproportionately high and adverse human health or environmental effects from the proposed action. Navy analyzed the impacts on low income and minority populations pursuant to Executive Order 12898. The FEIS addressed the potential environmental, social, and economic impacts associated with the disposal of Hunters Point Naval Shipyard and subsequent reuse of the property under the two proposed alternatives. All but one of the impacts identified are mitigable, and most have an effect only on the Shipyard property itself. The one significant adverse unmitigable impact is a traffic delay on a local intersection (Third Street and Cesar Chavez Street) that is not located on the Shipyard. Low income and minority populations residing within the region would not be disproportionately affected by this localized adverse impact. Indeed, the increased employment opportunities, housing, and recreational resources generated by the Preferred Alternative would have beneficial effects.

Navy also analyzed the impacts on children pursuant to Executive Order 13045, Protection of Children from Environmental Health Risks and Safety Risks, 3 CFR 198 (1998). Under the Preferred Alternative, the largest concentration of children would be present in the residential, educational, and recreational areas. The Preferred Alternative would not pose any disproportionate environmental health or safety risks to children.

Mitigation: Implementation of Navy's decision to dispose of Hunters Point Naval Shipyard does not require Navy to implement any mitigation measures. Navy will take certain actions to implement existing agreements and to comply with regulations. These actions were treated in the Final EIS as agreements or regulatory requirements rather than as mitigation. Before conveying any property at Hunters Point Naval Shipyard, Navy will nominate Drydock 4 and the Hunters Point Commercial Drydock Historic District for listing in the National Register of Historic Places. Navy completed an Historic American Engineering Record for Drydock 4, which the National Park Service accepted on November 18, 1996. Navy will also submit an Historic American Engineering Record for the Commercial Drydock Historic District to the National Park Service.

The FEIS identified and discussed those actions that will be necessary to mitigate the impacts associated with the reuse and redevelopment of Hunters Point Naval Shipyard. The acquiring entity, under the direction of Federal, State, and local agencies with regulatory authority over protected resources, will be responsible for implementing necessary mitigation measures.

Comments Received on the FEIS: Navy received comments on the FEIS from one Federal agency, three private organizations, and one person. The Federal agency was the United States Environmental Protection Agency. The private organizations were Golden Gate University's Environmental Law and Justice Clinic on behalf of the Southeast Alliance for Environmental Justice; Arc Ecology on behalf of the Alliance for a Clean Waterfront; and the Bayview Hunters Point Community Advocates. All of the substantive comments received concerned issues already discussed in the Final EIS. Those comments that require clarification are addressed below.

The Environmental Protection Agency commented that Navy did not adopt in the FEIS an Environmental Management System as a mitigation measure that could reduce the local community's future risk of exposure to toxins. Navy identified mitigation measures in the FEIS that would reduce all significant impacts to a less than significant level, except for the traffic delay at one intersection. Existing Federal, State, and local air, water, and solid and hazardous waste laws and regulations control the discharge and release of pollutants through permitting, reporting and monitoring requirements. These statutory and regulatory authorities adequately protect human health and the environment. The enforcement of applicable environmental laws and regulations will ensure compliance and minimize disproportionate impacts.

Navy received several comments concerning the adequacy of the discussion of Navy's Installation Restoration Program in the FEIS and its relationship to the City's proposed reuse of the Shipyard property. Navy evaluated the impacts of the proposed reuse under the assumption that Navy will meet its statutory obligations under the Comprehensive Environmental Response, Compensation, and Liability Act of 1980 (CERCLA), 42 U.S.C. 9601-9675q (1994), which requires protection of human health and the environment. Section 4.7.1 of the FEIS discusses Navy's obligations to protect human health and the environment and to provide information about the environmental condition of the property at conveyance. Information concerning Navy's cleanup program at Hunters Point Naval Shipyard is available at the San Francisco Main Library's Science, Technical and Government Documents Room, 100 Larkin Street, San Francisco, and at the Anna E. Waden Branch Library, 5075 Third Street, in the Bayview area of San Francisco.

Regulations Governing the Disposal Decision: Navy's decision to dispose of Hunters Point Naval Shipyard was based upon the environmental analysis in the FEIS and Section 2824(a) of Public Law 101-510, as amended by Section 2834 of Public Law 103-160. Section 2834 of Public Law 103-160 authorizes Navy to convey the Hunters Point property to the City of San Francisco or a local reuse organization approved by the City. This authority is independent of the Defense Base Closure and Realignment Act of 1990, 10 U.S.C. 2687 note (1994), as well as the Federal Property and Administrative Services Act of 1949, 40 U.S.C. 484 (1994), and its implementing regulations, the Federal Property Management Regulations, 41 CFR part 101-47.

After Federal property has been conveyed to non-Federal entities, the property is subject to local land use regulations, including zoning and subdivision regulations, and building codes. Unless expressly authorized by statute, the disposing Federal agency cannot restrict the future use of surplus Government property. As a result, the local community exercises substantial control over future use of the property.

Conclusion: The City has determined in its Reuse Plan that the property should be used for various purposes including industrial, commercial, residential, and educational activities and to develop parks and recreational areas. The property's location, physical characteristics, and existing infrastructure as well as the current uses of adjacent property make it appropriate for the proposed uses.

Although the “No Action” Alternative has less potential for causing adverse environmental impacts, this Alternative would not take advantage of the location, physical characteristics, and infrastructure of Hunters Point Naval Shipyard or the current uses of adjacent property. Additionally, it would not foster local economic redevelopment of the base.

The acquiring entity, under the direction of Federal, State, and local agencies with regulatory authority over protected resources, will be responsible for adopting practicable means to avoid or minimize environmental harm that may result from implementing the Reuse Plan.

Accordingly, Navy plans to dispose of Hunters Point Naval Shipyard in a manner that is consistent with the City of San Francisco's Reuse Plan for the property.

Dated: October 16, 2000.
Robert B. Pirie, Jr.
Assistant Secretary of the Navy (Installations And Environment).
Dated: November 14, 2000.
J.L. Roth,
LCDR, JAGC, USN, Federal Register Liaison Officer.

[FR Doc. 00-29650 Filed 11-17-00; 8:45 am]

BILLING CODE 3810-FF-M